DEPARTMENT OF ENERGY

Federal Energy Regulatory Commission

Combined Notice of Filings #1

Take notice that the Commission received the following electric corporate filings:

Docket Numbers: EC25-38-000.

Applicants: Catalina Solar, LLC, PGR 2023 Lessee 1, LLC.

Description: Joint Application for Authorization Under Section 203 of the Federal Power Act of Catalina Solar, LLC, et al.

Filed Date: 1/10/25.

Accession Number: 20250110-5432.

Comment Date: 5 p.m. ET 1/31/25.

Docket Numbers: EC25-39-000.

Applicants: Dow Hydrocarbons and Resources LLC, Dow Pipeline, LLC, InfraPark Holdings, LLC.

Description: Joint Application for Authorization Under Section 203 of the Federal Power Act of Dow Hydrocarbons and Resources LLC, et al.

Filed Date: 1/10/25.

Accession Number: 20250110-5447.

Comment Date: 5 p.m. ET 1/31/25.

Take notice that the Commission received the following exempt wholesale generator filings:

Docket Numbers: EG25-76-000.

Applicants: Gonzaga Ridge Wind Farm, LLC.

Description: Gonzaga Ridge Wind Farm, LLC submits Notice of Self-Certification of Exempt Wholesale Generator Status.

Filed Date: 1/13/25.

Accession Number: 20250113-5061.

Comment Date: 5 p.m. ET 2/3/25.

Docket Numbers: EG25-77-000.

Applicants: Gonzaga Ridge Battery Facility, LLC.

Description: Gonzaga Ridge Battery Facility, LLC submits Notice of Self-Certification of Exempt Wholesale Generator Status.

Filed Date: 1/13/25.

Accession Number: 20250113-5062.

Comment Date: 5 p.m. ET 2/3/25.

Take notice that the Commission received the following electric rate filings:

Docket Numbers: ER18-1960-008.

Applicants: Tenaska Pennsylvania Partners, LLC.

Description: Notice of Change in Status of Tenaska Pennsylvania Partners, LLC.

Filed Date: 1/10/25.

Accession Number: 20250110-5441.

Comment Date: 5 p.m. ET 1/31/25.

Docket Numbers: ER20-720-002; ER20-721-002; ER20-886-002; ER21-2140-002; ER23-1812-002; ER24-966-003.

Applicants: Eleven Mile Solar Center, LLC, Sunflower Energy Center, LLC, Haystack Wind Project, LLC, Orsted US Trading LLC, Willow Creek Wind Power LLC, Plum Creek Wind, LLC.

Description: Triennial Market Power Analysis for Southwest Power Pool Inc. Region of Plum Creek Wind, LLC, et al.

Filed Date: 1/10/25.

Accession Number: 20250110-5436.

Comment Date: 5 p.m. ET 3/11/25.

Docket Numbers: ER24-2566-004.

Applicants: Northern States Power Company, a Minnesota corporation.

Description: Tariff Amendment: 2025-01-10 CapX Brookings CMA—757—Errata to be effective 6/21/2024.

Filed Date: 1/10/25.

Accession Number: 20250110-5416.

Comment Date: 5 p.m. ET 1/31/25.

Docket Numbers: ER24-3112-001.

Applicants: Richland Township Solar, LLC.

Description: Notice of Non-Material Change in Status of Richland Township Solar, LLC.

Filed Date: 1/10/25.

Accession Number: 20250110-5442.

Comment Date: 5 p.m. ET 1/31/25.

Docket Numbers: ER25-699-001.

Applicants: Arizona Public Service Company.

Description: Tariff Amendment: Service Agreement No. 429—Refile to be effective 11/12/2024.

Filed Date: 1/13/25.

Accession Number: 20250113-5072.

Comment Date: 5 p.m. ET 2/3/25.

Docket Numbers: ER25-907-000.

Applicants: Entergy Arkansas, LLC.

Description: § 205(d) Rate Filing: EAL-Osceola WDS Agreement to be effective 3/11/2025.

Filed Date: 1/10/25.

Accession Number: 20250110-5390.

Comment Date: 5 p.m. ET 1/31/25.

Docket Numbers: ER25-908-000.

Applicants: PJM Interconnection, L.L.C.

Description: § 205(d) Rate Filing: Amendment to WMPA, Service Agreement No. 6534; Queue No. AE2-074 to be effective 3/15/2025.

Filed Date: 1/13/25.

Accession Number: 20250113-5035.

Comment Date: 5 p.m. ET 2/3/25.

Docket Numbers: ER25-909-000.

Applicants: PJM Interconnection, L.L.C.

Description: § 205(d) Rate Filing: Original GIA Service Agreement No. 7464; Project Identifier No. AG1-104 to be effective 12/12/2024.

Filed Date: 1/13/25.

Accession Number: 20250113-5064.

Comment Date: 5 p.m. ET 2/3/25.

Docket Numbers: ER25-910-000.

Applicants: Ameren Illinois Company.

Description: § 205(d) Rate Filing: 2025-01-13_SA 4421 Ameren Illinois-City of Casey-IMEA WCA to be effective 3/15/2025.

Filed Date: 1/13/25.

Accession Number: 20250113-5083.

Comment Date: 5 p.m. ET 2/3/25.

Docket Numbers: ER25-911-000.

Applicants: PJM Interconnection, L.L.C.

Description: § 205(d) Rate Filing: Amendment to Queue None ISA No. 2824 & W4-004B/AT11 ISA No. 3563 to be effective 3/15/2025.

Filed Date: 1/13/25.

Accession Number: 20250113-5089.

Comment Date: 5 p.m. ET 2/3/25.

Docket Numbers: ER25-912-000.

Applicants: Ameren Illinois Company.

Description: § 205(d) Rate Filing: 2025-01-13_SA 4422 Ameren Illinois-City of Altamont-IMEA WCA to be effective 3/15/2025.

Filed Date: 1/13/25.

Accession Number: 20250113-5093.

Comment Date: 5 p.m. ET 2/3/25.

Docket Numbers: ER25-913-000.

Applicants: PJM Interconnection, L.L.C.

Description: § 205(d) Rate Filing: Amendment to WMPA, Service Agreement No. 6317; Queue No. AG1-499 to be effective 3/15/2025.

Filed Date: 1/13/25.

Accession Number: 20250113-5105.

Comment Date: 5 p.m. ET 2/3/25.

Docket Numbers: ER25-914-000.

Applicants: AEP Texas Inc.

Description: § 205(d) Rate Filing: AEPTX-Third Coast BESS 1st Amended Generation Interconnection Agreement to be effective 12/15/2024.

Filed Date: 1/13/25.

Accession Number: 20250113-5112.

Comment Date: 5 p.m. ET 2/3/25.

Docket Numbers: ER25-915-000.

Applicants: PJM Interconnection, L.L.C.

Description: § 205(d) Rate Filing: Original GIA, SA No. 7463; Project Identifiers AF2-433/AF2-434 to be effective 12/12/2024.

Filed Date: 1/13/25.

Accession Number: 20250113-5131.

Comment Date: 5 p.m. ET 2/3/25.

Docket Numbers: ER25-916-000.

Applicants: Alabama Power Company, Georgia Power Company, Mississippi Power Company.

Description: Initial rate filing: Alabama Power Company submits tariff filing per 35.12: Southern Power Enhanced Reliability Upgrade Construction Agreement Filing to be effective 1/6/2025.

Filed Date: 1/13/25.

Accession Number: 20250113-5134.

Comment Date: 5 p.m. ET 2/3/25.

Docket Numbers: ER25-917-000.

Applicants: Georgia Power Company.

Description: Initial rate filing: Southern Power ERU Construction Agreement Concurrence Filing to be effective 1/6/2025.

Filed Date: 1/13/25.

Accession Number: 20250113-5141.

Comment Date: 5 p.m. ET 2/3/25.

Docket Numbers: ER25-918-000.

Applicants: Mississippi Power Company.

Description: Initial rate filing: Southern Power ERU Construction Agreement Concurrence Filing to be effective 1/6/2025.

Filed Date: 1/13/25.

Accession Number: 20250113-5145.

Comment Date: 5 p.m. ET 2/3/25.

Take notice that the Commission received the following electric securities filings:

Docket Numbers: ES25-27-000.

Applicants: Rockland Electric Company.

Description: Application Under Section 204 of the Federal Power Act for Authorization to Issue Securities of Rockland Electric Company.

Filed Date: 1/10/25.

Accession Number: 20250110-5440.

Comment Date: 5 p.m. ET 1/31/25.

Take notice that the Commission received the following public utility holding company filings:

Docket Numbers: PH25-3-000.

Applicants: New Jersey Resources Corporation.

Description: New Jersey Resources Corporation submits FERC-65A Notice of Change in Fact to Waiver Notification.

Filed Date: 1/10/25.

Accession Number: 20250110-5431.

Comment Date: 5 p.m. ET 1/31/25.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or

requests for rehearing, the public is encouraged to contact OPP at (202) 502-6595 or OPP@ferc.gov.

Dated: January 13, 2025.
Carlos D. Clay,
Acting Deputy Secretary.

[FR Doc. 2025-01211 Filed 1-16-25; 8:45 am]

BILLING CODE 6717-01-P